DEPARTMENT OF COMMERCE

Minority Business Development Agency

[Docket No: 00724217-6195-12]

Solicitation of Applications for the Minority Business Enterprise Center (MBEC) (Formerly Minority Business Development Center (MBDC))

AGENCY: Minority Business Development Agency, DOC.

ACTION: Notice.

SUMMARY: In accordance with Executive Order 11625 and 15 U.S.C. Section 1512, the Minority Business Development Agency (MBDA) is soliciting competitive applications from organizations to operate a Minority Business Enterprise Center (MBEC) (formerly Minority Business Development Center). This is not a grant program to help start a business. Applications submitted must be to operate a Minority Business Enterprise Center and to provide business consultation to eligible minority clients. Applications that do not meet these requirements will be rejected. The MBEC will provide services in the outlined geographic areas (refer to SUPPLEMENTARY INFORMATION section of this Notice).

The MBEC Program requires MBEC staff to provide standardized business assistance services (as outlined in the Federal Funding Opportunity Announcement) to minority firms with $500,000 or more in annual revenues and/or “rapid growth-potential” minority businesses (“Strategic Growth Initiative” or “SGI” firms) directly; to develop a network of strategic partnerships; and to provide strategic business consulting. This is a fee for service program, therefore, the MBEC is required to charge client fees.

These requirements will be used to generate increased results with respect to financing and contracts awarded to minority-owned firms and thus, are a key component of this program.

The MBEC Program will concentrate on serving SGI firms capable of generating significant employment and long-term economic growth. The MBEC Program shall leverage telecommunications technology, including the Internet, and a variety of online computer-based resources to dramatically increase the level of service that the MBEC can provide to minority-owned firms.

DATES: The closing date for receipt of applications is September 20, 2006. Completed applications must be received by MBDA no later than 5 p.m. Eastern Daylight Savings Time at the address below for paper submission or at http://www.Grants.gov for electronic submission. The due date and time is the same for electronic submissions as it is for paper submissions. The date that applications will be deemed to have been submitted electronically shall be the date and time received at Grants.gov. Applicants should save and print the proof of submission they receive from Grants.gov. Applications received after the closing date and time will not be considered. Anticipated time for processing is one hundred fifty (150) days from the date of publication of this Announcement. MBDA anticipates that awards for the MBEC program will be made with a start date of January 1, 2007.

Pre-Application Conference: A pre-application teleconference will be held on August 17, 2006, in connection with this solicitation Announcement. The pre-application conference will be available on MBDA's Portal (MBDA Portal) at http://www.mbda.gov. Interested parties to the pre-application conference must register at MBDA's Portal at least 24 hours in advance of the event.

ADDRESSES:

(1)(a) Paper Submission—If Mailed: If the application is mailed/shipped overnight by the applicant or its representative, one (1) signed original plus two (2) copies of the application must be submitted. Completed application packages must be mailed to: Office of Business Development—MBEC Program, Office of Executive Secretariat, HCHB, Room 5063, Minority Business Development Agency, U.S. Department of Commerce, 14th Street and Constitution Avenue, NW., Washington, DC 20230. U.S. Department of Commerce delivery policies for Federal Express, UPS, and DHL overnight services require the packages to be sent to the address above.

(1)(b) Paper Submission—If Hand-Delivered: If the application is hand-delivered by the applicant or his/her representative, one (1) signed original plus two (2) copies of the application must be delivered to: U.S. Department of Commerce, Minority Business Development Agency, Office of Business Development—MBEC Program (extension 1940), HCHB, Room 1874, Entrance #10, 15th Street, NW., Washington, DC (Between Pennsylvania and Constitution Avenues). U.S. Department of Commerce “hand-delivery” policies state that Federal Express, UPS, and DHL overnight services submitted to the address listed above (Entrance #10) cannot be accepted. These policies should be taken into consideration when utilizing their services. MBDA will not accept applications that are submitted by the deadline but rejected due to Departmental hand-delivery policies. The applicant must adhere to these policies in order for his/her application to receive consideration for award.

(2) Electronic Submission: Applicants are encouraged to submit their proposal electronically at http://www.Grants.gov. Electronic submissions should be made in accordance with the instructions available at Grants.gov (see http://www.grants.gov/ForApplicants for detailed information). MBDA strongly recommends that applicants not wait until the application deadline date to begin the application process through Grants.gov.

FOR FURTHER INFORMATION CONTACT: For further information, please visit MBDA's Minority Business Internet Portal at http://www.mbda.gov. Paper applications and Standard Forms may be obtained by contacting the MBDA National Enterprise Center (NEC) for the area where the Applicant is located (See Agency Contacts section) or visiting MBDA's Portal at http://www.mbda.gov. Standard Forms 424, 424A, 424B, and SF-LLL can also be obtained at http://www.whitehouse.gov/omb/grants, or http://www.Grants.gov. Forms CD-511 and CD-346 may be obtained at http://www.doc.gov/forms.

Responsibility for ensuring that applications are complete and received BY MBDA on time is the sole responsibility of the Applicant.

Agency Contacts:

1. Office of Business Development, 14th and Constitution Avenue, NW., Room 5073, Washington, DC 20230. Contact: Efrain Gonzalez, Program Manager at 202-482-1940.

2. San Francisco National Enterprise Center (SFNEC) is located at 221 Main Street, Suite 1280, San Francisco, CA 94105. This region covers the states of Arizona, Nevada, Idaho, Oregon, California, Washington, Alaska and Hawaii. Contact: Linda Marmolejo, Regional Director, SFNEC at 415-744-3001.

3. Dallas National Enterprise Center (DNEC) is located at 1100 Commerce Street, Suite 7B-23, Dallas, TX 75242. This region covers the states of Arkansas, Colorado, Louisiana, Montana, New Mexico, North Dakota, Oklahoma, South Dakota, Texas, Utah and Wyoming. Contact: John Iglehart, Regional Director, Dallas NEC at 214-767-8001.

4. Atlanta National Enterprise Center (ANEC) is located at 401 W. Peachtree Street, NW., Suite 1715, Atlanta, GA 30308-3516. This region covers the states of North Carolina, South Carolina, Georgia, Florida, Alabama, Mississippi, and Tennessee. Contact John Iglehart Acting Regional Director, ANEC at 404-730-3300.

5. Chicago National Enterprise Center (CNEC) is located at 55 E. Monroe Street Suite 1406, Chicago, IL 60603. This region covers the states of Ohio, Illinois, Minnesota, Iowa, Michigan, Indiana, and Missouri. Contact Eric Dobyne, Regional Director, CNEC at 312-353-0182.

6. New York National Enterprise Center (NYNEC) is located at 26 Federal Plaza Room 3720, New York, NY 10278. This region covers the states of Maine, New Hampshire, Vermont, Rhode Island, Massachusetts, New York, Pennsylvania, New Jersey, Connecticut, Delaware, Maryland, Virginia, West Virginia and District of Columbia. Contact Heyward Davenport, Regional Director, NYNEC at 212-264-3262.

SUPPLEMENTARY INFORMATION:

Geographic Service Areas

The MBEC will provide services in the following geographic areas:

MBEC name | Location of MBEC | Geographic service area
Arizona MBEC | Phoenix, AZ | State of Arizona.
Inland Empire MBEC | Riverside, CA | California Counties of: Orange, Riverside, Inland Empire, San Diego and San Bernardino.
Nevada MBEC | Las Vegas, NV | State of Nevada.
Los Angeles MBEC | Los Angeles Metro | California Counties of: Los Angeles and Ventura.
Northern California MBEC | San Jose, CA | California Counties of: Santa Clara, Alameda, San Francisco, San Mateo, San Benito, Monterey, Santa Cruz, Sonoma, Napa, Solano, Contra Costa, Mendocino, San Joaquin, Sacramento, and Marin.
Washington MBEC | Seattle, WA | State of Washington.
Dallas MBEC | Dallas, TX | Dallas/Fort Worth/Arlington MSA.*
El Paso MBEC | El Paso, TX | El Paso MSA.*
Houston MBEC | Houston, TX | Houston/Sugar Land/Baytown MSA.*
New Mexico MBEC | Albuquerque, NM | State of New Mexico.
Louisiana MBEC | New Orleans, LA | State of Louisiana.
San Antonio MBEC | San Antonio, TX | San Antonio MSA.*
Georgia MBEC | Atlanta, GA | State of Georgia.
North Carolina MBEC | Durham, NC | State of North Carolina.
South Carolina MBEC | Columbia, SC | State of South Carolina.
Alabama/Mississippi MBEC | Biloxi, MS | States of Alabama & Mississippi.
Chicago MBEC | Chicago, IL | State of Illinois.
Detroit MBEC | Detroit, MI | State of Michigan.
Cleveland MBEC | Cleveland, OH | State of Ohio.
Indianapolis MBEC | Indianapolis, IN | State of Indiana.
St. Louis MBEC | St. Louis, MO | State of Missouri.
Manhattan MBEC | New York, NY | New York Counties of: New York, Bronx and Westchester.
Williamsburg MBEC | Brooklyn, NY | New York Counties of: Kings and Richmond.
Queens MBEC | Jamaica, NY | New York Counties of: Queens, Nassau and Suffolk.
Pennsylvania MBEC | Philadelphia, PA | State of Pennsylvania.
New Jersey MBEC | Newark, NJ | State of New Jersey.
DC Metro MBEC | Washington, DC | Washington, DC/Arlington/Alexandria MSA.*
Puerto Rico MBEC | San Juan, PR | Puerto Rico Islandwide.
* Metropolitan Statistical Area, please see OMB Bulletin No. 06-01, Update of Statistical Area Definitions and Guidance on their Uses (December 5, 2005) (as corrected May 26, 2006) at http://www.whitehouse.gov/omb/bulletins.

Electronic Access: A link to the full text of the Federal Funding Opportunity (FFO) Announcement for the MBOC Program can be found at http://www.Grants.gov or by downloading at http://www.mbda.gov or by contacting the appropriate MBDA representative identified above. The FFO contains a full and complete description of the MBEC program requirements. In order to receive proper consideration, applicants must comply with all information and requirements contained in the FFO. Applicants will be able to access, download and submit electronic grant applications for the MBEC Program in this announcement at Grants.gov. MBDA strongly recommends that applicants not wait until the application deadline date to begin the application process through Grants.gov. The date that applications will be deemed to have been submitted electronically shall be the date and time received at Grants.gov. Applicants should save and print the proof of submission they receive from Grants.gov. Applications received after the closing date and time will not be considered.

Funding Priorities: Preference may be given to applications during the selection process which address the following MBDA funding priorities:

(a) Applicants who submit proposals that include work activities that exceed the minimum work requirements in this Announcement.

(b) Applicants who submit proposals that include performance goals that exceed the minimum performance goal requirements in this Announcement.

(c) Applicants who demonstrate an exceptional ability to identify and work towards the elimination of barriers, which limit the access of minority businesses to markets and capital.

(d) Applicants who demonstrate an exceptional ability to identify and work with minority businesses seeking to obtain large-scale contracts and/or insertion into supply chains with institutional customers.

(e) Applicants that utilize fee for service models and those that demonstrate an exceptional ability to charge and collect fees from clients.

Funding Availability: The total award period is three years. The Federal funding share in each program year (2007-2009) (January 1-December 31 respectively) is $7.49M. MBDA funding availability is subject to Fiscal Year appropriations. MBDA anticipates funding twenty-eight (28) MBECs from this competitive Announcement.

MBDA requires each award recipient to provide a minimum of twenty percent (20%) non-federal cost share. Applicants must submit project plans and budgets for each of the three funding periods. Projects will be funded for no more than one year at a time. Project proposals accepted for funding will not compete for funding in the subsequent second and third budget periods. Second and third year funding will depend upon satisfactory performance, availability of funds to support continuation of the project, and consistency with Department of Commerce and MBDA priorities. Second and third year funding will be granted at the sole discretion of MBDA and the Department of Commerce.

MBDA is soliciting competitive applications from organizations to operate a MBEC in the designated geographic areas. The maximum Federal Funding Amounts for each year are shown below.

Project name | January 1, 2007 through December 31, 2007: Total cost ($) | January 1, 2007 through December 31, 2007: Federal share ($) | January 1, 2007 through December 31, 2007: Non-federal share ($) (20% min.) | January 1, 2008 through December 31, 2008: Total cost ($) | January 1, 2008 through December 31, 2008: Federal share ($) | January 1, 2008 through December 31, 2008: Non-federal share ($) (20% min.) | January 1, 2009 through December 31, 2009: Total cost ($) | January 1, 2009 through December 31, 2009: Federal share ($) | January 1, 2009 through December 31, 2009: Non-federal share ($) (20% min.)
Arizona MBEC | 343,900 | 275,000 | 68,900 | 343,900 | 275,000 | 68,900 | 343,900 | 275,000 | 68,900
Inland Empire MBEC | 406,500 | 325,000 | 81,500 | 406,500 | 325,000 | 81,500 | 406,500 | 325,000 | 81,500
Los Angeles MBEC | 437,500 | 350,000 | 87,500 | 437,500 | 350,000 | 87,500 | 437,500 | 350,000 | 87,500
Nevada MBEC | 281,300 | 225,000 | 56,300 | 281,300 | 225,000 | 56,300 | 281,300 | 225,000 | 56,300
Northern California MBEC | 375,000 | 300,000 | 75,000 | 375,000 | 300,000 | 75,000 | 375,000 | 300,000 | 75,000
Washington MBEC | 312,500 | 250,000 | 62,500 | 312,500 | 250,000 | 62,500 | 312,500 | 250,000 | 62,500
Dallas MBEC | 390,839 | 312,639 | 78,200 | 390,839 | 312,639 | 78,200 | 390,839 | 312,639 | 78,200
El Paso MBEC | 262,500 | 210,000 | 52,500 | 262,500 | 210,000 | 52,500 | 262,500 | 210,000 | 52,500
Houston MBEC | 375,000 | 300,000 | 75,000 | 375,000 | 300,000 | 75,000 | 375,000 | 300,000 | 75,000
New Mexico MBEC | 312,500 | 250,000 | 62,500 | 312,500 | 250,000 | 62,500 | 312,500 | 250,000 | 62,500
Louisiana MBEC | 375,000 | 300,000 | 75,000 | 375,000 | 300,000 | 75,000 | 375,000 | 300,000 | 75,000
San Antonio MBEC | 320,639 | 256,639 | 64,000 | 320,639 | 256,639 | 64,000 | 320,639 | 256,639 | 64,000
Georgia MBEC | 300,799 | 240,599 | 60,200 | 300,799 | 240,599 | 60,200 | 300,799 | 240,599 | 60,200
North Carolina MBEC | 300,799 | 240,599 | 60,200 | 300,799 | 240,599 | 60,200 | 300,799 | 240,599 | 60,200
Alabama/Mississippi MBEC | 300,799 | 240,599 | 60,200 | 300,799 | 240,599 | 60,200 | 300,799 | 240,599 | 60,200
South Carolina MBEC | 300,799 | 240,599 | 60,200 | 300,799 | 240,599 | 60,200 | 300,799 | 240,599 | 60,200
Chicago MBEC | 375,000 | 300,000 | 75,000 | 375,000 | 300,000 | 75,000 | 375,000 | 300,000 | 75,000
Detroit MBEC | 349,800 | 280,000 | 69,800 | 349,800 | 280,000 | 69,800 | 349,800 | 280,000 | 69,800
Indianapolis MBEC | 250,000 | 200,000 | 50,000 | 250,000 | 200,000 | 50,000 | 250,000 | 200,000 | 50,000
St. Louis MBEC | 300,000 | 240,000 | 60,000 | 300,000 | 240,000 | 60,000 | 300,000 | 240,000 | 60,000
Cleveland MBEC | 300,000 | 240,000 | 60,000 | 300,000 | 240,000 | 60,000 | 300,000 | 240,000 | 60,000
Manhattan MBEC | 343,900 | 275,000 | 68,900 | 343,900 | 275,000 | 68,900 | 343,900 | 275,000 | 68,900
New Jersey MBEC | 343,900 | 275,000 | 68,900 | 343,900 | 275,000 | 68,900 | 343,900 | 275,000 | 68,900
Pennsylvania MBEC | 343,900 | 275,000 | 68,900 | 343,900 | 275,000 | 68,900 | 343,900 | 275,000 | 68,900
Queens MBEC | 343,900 | 275,000 | 68,900 | 343,900 | 275,000 | 68,900 | 343,900 | 275,000 | 68,900
Puerto Rico MBEC | 300,799 | 240,599 | 60,200 | 300,799 | 240,599 | 60,200 | 300,799 | 240,599 | 60,200
Washington Metro MBEC | 343,900 | 275,000 | 68,900 | 343,900 | 275,000 | 68,900 | 343,900 | 275,000 | 68,900
Williamsburg MBEC | 375,000 | 300,000 | 75,000 | 375,000 | 300,000 | 75,000 | 375,000 | 300,000 | 75,000

Authority: Executive Order 11625 and 15 U.S.C. 1512.

Catalog of Federal Domestic Assistance (CFDA): 11.800 Minority Business Enterprise Center Program (formerly Minority Business Development Center (MBDC) Program).

Eligibility: For-profit entities (including sole-proprietorships, partnerships, and corporations), and non-profit organizations, state and local government entities, American Indian tribes, and educational institutions are eligible to operate MBECs. Applicants receiving three (3) consecutive funding award cycles (beginning 2007 through 2015) will not be eligible to receive an award in 2016 (and thereafter).

Program Description: In accordance with Executive Order 11625 and 15 U.S.C. Section 1512, the Minority Business Development Agency (MBDA) is soliciting applications from organizations to operate a Minority Business Enterprise Center (MBEC) (formerly Minority Business Development Center). The MBEC Program requires MBEC staff to provide standardized business assistance services to minority firms with $500,000 or more in annual revenues and/or “rapid-growth potential” minority businesses (“Strategic Growth Initiative or “SGI” firms) directly; to develop a network of strategic partnerships; and to provide strategic business consulting. This is a fee for service program, therefore, the MBEC is required to charge client fees.

These requirements will be used to generate increased results with respect to financing and contracts awarded to minority-owned firms and thus, are a key component of this program.

The MBEC Program will concentrate on serving SGI firms capable of generating significant employment and long-term economic growth. The MBEC program shall continue to leverage telecommunications technology, including the Internet, and a variety of online/computer-based resources to dramatically increase the level of service that the MBEC can provide to minority-owned firms.

The MBEC program incorporates an entrepreneurial approach to building market stability and improving the quality of services delivered. This strategy expands the reach of the MBEC by requiring project operators to develop and build upon strategic alliances with public and private sector partners, as a means of serving SGI firms within the project's geographic service area. In addition, MBDA will establish specialized business consulting training programs to support the MBEC client assistance services. These MBEC training programs are designed specifically to foster growth assistance to its clients. The MBEC will also encourage increased collaboration and client/non-client referrals among the MBDA-sponsored networks. This will provide a comprehensive approach to serving the emerging sector of the minority business community. The MBEC will operate through the use of trained professional business consultants who will assist minority entrepreneurs through direct client engagements. Entrepreneurs eligible for assistance under the MBEC Program are African Americans, Puerto Ricans, Spanish-speaking Americans, Aleuts, Asian and Pacific Islander Americans, Asian Indians, Native Americans, Eskimos and Hasidic Jews.

As part of its strategy for continuous improvement, the MBEC shall expand its delivery capacity to all minority firms (as defined in the FFO), with greater emphasis on SGI firms capable of impacting economic growth and employment. MBDA wants to ensure that MBEC clients are receiving a consistent level of service throughout its funded network. To that end, MBDA will require MBEC consultants to attend training course(s) designed to achieve standardized services and quality expectations.

Further programmatic information can be found in the FFO.

Match Requirements: Cost sharing of at least 20% for year 1, 2 and 3 is required. Cost sharing is the portion of the project cost not borne by the Federal Government. Applicants must meet this requirement in (1) cash contributions; (2) non-cash applicant contributions; and/or (3) third party in-kind contributions. Bonus points will be awarded for cost sharing exceeding 20 percent that is applied on the following scale: More than 20%—less than 25%—1 point; 25% or more-less than 30%—2 points; 30% or more-less than 35%—3 points; 35% or more-less than 40%—4 points; and, 40% or more—5 points. Applicants must provide a detailed explanation of how the cost-sharing requirement will be met. The MBEC must charge client fees for services rendered. Client fees shall be used towards meeting cost share requirements. Client fees applied directly to the award's cost sharing requirement must be used in furtherance of the program objectives.

Evaluation Criteria: Proposals will be evaluated and applicants will be selected based on the following criteria. An application must receive at least 70% of the total points available for each evaluation criterion, in order for the application to be considered for funding. The maximum total of points that can be earned is 105 including bonus points for related non-federal cost sharing, except when oral presentations are made by applicants. If oral presentations are made (see paragraph 5 below), the maximum total of points that can be earned is 115.

1. Applicant Capability (40 points). The applicant's proposal will be evaluated with respect to the applicant firm's experience and expertise in providing the work requirements listed. Specifically, the proposals will be evaluated as follows:

• MBE Community—experience in and knowledge of the minority business sector and strategies for enhancing its growth and expansion; particular emphasis shall be on expanding SGI firms (4 points);

• Business Consulting—experience in and knowledge of business consulting of SGI firms (5 points);

• Financing—experience in and knowledge of the preparation and formulation of successful financial transactions (5 points);

• Procurements and Contracting—experience in and knowledge of the public and private sector contracting opportunities for minority businesses, as well as demonstrated expertise in assisting MBEs into supply chains (5 points);

• Financing Networks—resources and professional relationships within the corporate, banking and investment community that may be beneficial to minority-owned firms (5 points);

• Establishment of a Self-Sustainable Service Model—summary plan to establish a self-sustainable model for continued services to the MBE community beyond the MBDA funding cycle (3 points);

• MBE Advocacy—experience and expertise in advocating on behalf of minority businesses, both as to specific transactions in which a minority business seeks to engage, and as to broad market advocacy for the benefit of the minority community at large (3 points); and

• Key Staff—assessment of the qualifications, experience and proposed role of staff who will operate the MBEC. In particular, an assessment will be made to determine whether proposed key staff possesses the expertise in utilizing information systems and the ability to successfully deliver services (10 points).

2. Resources (20 points). The applicant's proposal will be evaluated according to the following criteria:

• Resources—discuss those resources (not included as part of the cost-sharing arrangement) that will be used, including (but not limited to) existing prior and/or current data lists that will serve in fostering immediate success for the MBEC (8 points);

• Location—Applicant must indicate if it shall establish a location for the Center that is separate and apart from any existing offices in the geographic service area (2 points);

• Partners—discuss how you plan to establish and maintain the network of five (5) Strategic Partners and how these partners will support the MBEC to meet its performance objectives (5 points); and

• Equipment—discuss how you plan to accomplish the computer hardware and software requirements (5 points).

3. Techniques and Methodologies (20 points). The applicant's proposal will be evaluated as follows:

• Performance Measures—relate each performance measure to the financial, information and market resources available in the geographic service area to the applicant (including existing client list) and how the goals will be met (marketing plan). Specific attention should be placed on matching performance outcomes (as described under “Geographic Service Areas and Performance Goals” of the FFO) with client service (billable) hours. The applicant should consider existing market conditions and its strategy to achieve the goal (10 points);

• Plan of Action—provide specific detail on how the applicant will start operations. The MBEC shall have thirty (30) days to become fully operational after an award is made. Fully operational means that all staff are hired, all signs are up, all items of furniture and equipment are in place and operational, all necessary forms are developed (e.g., client engagement letters, other standard correspondence, etc.), and the center is ready to open its doors to the public (5 points); and,

• Work Requirement Execution Plan—The applicant will be evaluated on how effectively and efficiently all staff time will be used to achieve the work requirements (5 points).

4. Proposed Budget and Supporting Budget Narrative (20 points). The applicant's proposal will be evaluated on the following sub-criteria:

• Reasonableness, allowability and allocability of costs. All of the proposed expenditures must be discussed and the budget line item narrative must match the proposed budget. Fringe benefits and other percentage item calculations must match the proposed line item on the budget. (5 points);

• Proposed cost sharing of 20% is required. The non-Federal share must be adequately documented, including how client fees will be used to meet the cost-share (5 points); and,

• Performance Based Budget. Discuss how the budget is related to the accomplishment of the work requirements and the performance measures. Provide a budget narrative that clearly shows the connections (10 points).

Proposals with cost sharing which exceeds 20% will be awarded bonus points on the following scale: more than 20%—less than 25%—1 point; 25% or more-less than 30%—2 points; 30% or more-less than 35%—3 points; 35% or more-less than 40%—4 points; and 40% or more—5 points.

5. Oral Presentation—Optional (10 points). Oral presentations are held only when determined by MBDA. When the merit review by the panel results in applications scoring 70% or more of the available points for each criterion, MBDA may request all those applicants to develop and provide an oral presentation. This presentation will be used to establish a final evaluation and rating.

The applicant's presentation will be evaluated on the following sub-criteria:

(a) The extent to which the presentation demonstrates how the applicant will effectively and efficiently assist MBDA in the accomplishment of its mission (2 points);

(b) The extent to which the presentation demonstrates business operating priorities designed to manage a successful MBEC (2 points);

(c) The extent to which the presentation demonstrates a management philosophy that achieves an effective balance between micromanagement and complete autonomy for its Project Director (2 points);

(d) The extent to which the presentation demonstrates robust search criteria for the identification of a Project Director (1 point);

(e) The extent to which the presentation demonstrates effective employee recruitment and retention policies and procedures (1 point); and,

(f) The extent to which the presentation demonstrates a competitive and innovative approach to exceeding performance requirements (2 points).

Review and Selection Process

1. Initial Screening. Prior to the formal paneling process, each application will receive an initial screening to ensure that all required forms, signatures and documentation are present.

2. Panel Review. Each application will receive an independent, objective review by a panel qualified to evaluate the applications submitted. MBDA anticipates that the review panel will be made up of at least three independent reviewers (all Federal employees) who will review all applications based on the above evaluation criteria. Each reviewer will evaluate and provide a score for each proposal. In order for an application to be considered for funding, it shall need to achieve 70% of the available points for each criterion. Failure to achieve these results will automatically deem the application as unsuccessful.

3. Oral Presentation—Optional. When the merit review by the panel results in applications scoring 70% or more of the available points for each criterion, MBDA may request all those applicants to develop and provide an oral presentation. The applicants may receive up to 10 additional points based on the presentation and content presented. If a formal presentation is requested, the applicants will receive a formal communication (via standard mail, e-mail or fax) from MBDA indicating the time and date for the presentation. In person presentations are not mandatory but are encouraged; telephonic presentations are acceptable. Applicants will be asked to submit a power point presentation (or equivalent) to MBDA that addresses the oral presentation criteria (see above, Evaluation Criteria, item 5. Oral Presentation—Optional). This presentation must be submitted at least 24 hours before the scheduled date and time of the presentation. The presentation will be made to the National Director (or his/her designee) and/or up to three senior MBDA staff who did not serve on the merit evaluation panel. The oral panel members may ask follow-up questions after the presentation. MBDA will provide the teleconference dial-in number and pass code. Each finalist will present to MBDA staff only; other applicants are not permitted to listen (and/or watch).

All costs pertaining to this presentation shall be borne by the applicant. MBEC award funds may not be used as a reimbursement for this presentation. MBDA will not accept any requests or petitions for reimbursement.

The oral panel members shall score each presentation in accordance with the oral presentation criteria. An average score shall be compiled and added to the original score of the panel review.

4. Final Recommendation. The National Director of MBDA makes the final recommendation to the Department of Commerce Grants Officer regarding the funding of applications, taking into account the selection criteria as outlined in this Announcement and the following:

(a) The evaluations and rankings of the independent review panel and the evaluation(s) of the oral presentations, if applicable;

(b) Funding priorities. The National Director (or his/her designee) reserves the right to conduct a site visit (subject to the availability of funding) to applicant organizations receiving at least 70% of the total points available for each evaluation criterion, in order to make a better assessment of the organization's capability to achieve the funding priorities; and,

(c) The availability of funding.

Intergovernmental Review: Applications under this program are not subject to Executive Order 12372, “Intergovernmental Review of Federal Programs.”

Limitation of Liability: Applicants are hereby given notice that funds have not yet been appropriated for this program for Fiscal Year 2007. In no event will MBDA or the Department of Commerce be responsible for proposal preparation costs if this program fails to receive funding or is cancelled because of other agency priorities. Publication of this announcement does not oblige MBDA or the Department of Commerce to award any specific project or to obligate any available funds.

Universal Identifier: Applicants should be aware that they will be required to provide a Dun and Bradstreet Data Universal Numbering system (DUNS) number during the application process. See the June 27, 2003 (68 FR 38402) Federal Register notice for additional information. Organizations can receive a DUNS number at no cost by calling the dedicated toll-free DUNS Number request line at 1-866-705-5711 or by accessing the Grants.gov Web site at http://www.Grants.gov.

Department of Commerce Pre-Award Notification Requirements for Grants and Cooperative Agreements: The Department of Commerce Pre-Award Notification Requirements for Grants and Cooperative Agreements contained in the Federal Register notice of December 30, 2004 (69 FR 78389) are applicable to this solicitation.

Paperwork Reduction Act: This document contains collection-of-information requirements subject to the Paperwork Reduction Act (PRA). The use of standard forms 424, 424A, 424B, SF-LLL, and CD-346 have been approved by OMB under the respective control numbers 0348-0043, 0348-0044, 0348-0040, 0348-0046, and 0605-0001.

Notwithstanding any other provisions of law, no person is required to respond to, nor shall any person be subject to a penalty for failure to comply with a collection of information subject to the Paperwork Reduction Act unless that collection displays a currently valid OMB control number.

Executive Order 12866: This notice has been determined to be not significant for purposes of E.O. 12866.

Administrative Procedure Act/ Regulatory Flexibility Act: Prior notice for an opportunity for public comment are not required by the Administrative Procedure Act for rules concerning public property, loans, grant, benefits and contracts (5 U.S.C. 533(a)(2)). Because notice and opportunity for comment are not required pursuant to 5 U.S.C. 533 or any other law, the analytical requirements of the regulatory flexibility Act (5 U.S.C. 601 et seq.) are inapplicable. Therefore, a regulatory flexibility analysis is not required and has not been prepared.

Dated: July 21, 2006.
Ronald N. Langston,
National Director, Minority Business Development Agency.

[FR Doc. E6-11947 Filed 7-25-06; 8:45 am]

BILLING CODE 3510-21-P